DELAWARE RIVER BASIN COMMISSION

Notice of Commission Meeting and Public Hearing

Notice is hereby given that the Delaware River Basin Commission will hold an informal conference followed by a public hearing on Wednesday, May 6, 2009. The hearing will be part of the Commission's regular business meeting. The conference session and business meeting both are open to the public and will be held at the Commission's office building, located at 25 State Police Drive, West Trenton, New Jersey.

The conference among the commissioners and staff will begin at 10:30 a.m. and will consist of a presentation on the Christina Basin Targeted Initiative Watershed Grant Final Report and a presentation on the Special Area Management Plan for the Upper Wissahickon Creek Watershed. Conference session topics are subject to change. Accordingly, parties interested in attending should consult the Commission's Web site, drbc.net, closer to the meeting date.

The subjects of the public hearing to be held during the 1:30 p.m. business meeting include the dockets listed below:

1. Aqua Pennsylvania, Inc. D-81-61 CP-4. An application for approval of a ground water withdrawal project to renew the allocation included in Docket D-81-61 CP-3 and consolidate all other docket approvals for the Fawn Lakes, Woodloch Springs and Masthope water systems, retaining the existing withdrawal from all wells of 18.38 mg/30 days. Docket D-81-61 CP-4 will consolidate allocations approved in dockets D-81-61 CP-3, D-87-96 Renewal, and D-89-57 CP Renewal. The projects are located in the Catskill Formation in the Westcolang Creek Watershed in Lackawaxen Township, Pike County, Pennsylvania, within the drainage area of the section of the non-tidal Delaware River known as the Upper Delaware, which is designated as Special Protection Waters.

2. Matamoras Municipal Authority D-81-78 CP-8. An application for approval of an expansion of the public water supply service area of the Matamoras Municipal Authority. The applicant seeks no increase in its groundwater withdrawal allocation and will continue to supply up to 19.5 million gallons per thirty days (mg/30 days) for public water supply. The project is located in the Delaware River Watershed in the Borough of Matamoras, Pike County, Pennsylvania. The site is located within the drainage area of the section of the non-tidal Delaware River known as the Middle Delaware, which is designated as Special Protection Waters.

3. New Jersey American Water Company D-90-108 CP-3. An application for renewal of a ground water withdrawal project to continue the combined withdrawal of 1,851.14 mg/30 days to supply the applicant's public water supply system from 65 existing wells screened in the Potomac/Raritan/Magothy (PRM), Mt. Laurel/Wenonah, and Englishtown aquifers. The applicant wishes to consolidate within a single DRBC docket approval several interconnected private systems that it has acquired. The project wells are located in multiple watersheds in the western portions of Burlington and Camden counties. Included in the application is a request for the approval of three new wells to replace three existing wells (Old Orchard Wells Nos. 36 and 37 and Haddon Heights Well No. 30) that have experienced declining yields over time. The 65 wells are located in the municipalities of Cherry Hill, Somerdale, Haddon Heights, Runnemeade, Barrington, Gloucester, Magnolia, Laurel Springs, Voorhees, Camden City, and Gibbsboro in Camden County and the municipalities of Cinnaminson, Delran, Beverly, and Edgewater Park in Burlington County, New Jersey. A Notice of Application Received (NAR) was issued for this project on February 10, 2009. This second NAR reflects a change in the total number of wells and the number of wells being replaced.

4. Buckingham Township D-2003-13 CP-5. An application for approval of a ground water withdrawal project to supply up to 9.63 mg/30 days of water to the applicant's public water supply distribution system from new wells nos. F-8 in the Limeport Formation (limestone) and F-9 in the Leithsville Formation (dolomite). The applicant proposes to retain the existing total allocation of 42 mg/30 days for all system wells. Well No. F-9 will be on stand-by and used during emergency periods only. The project will allow the docket holder to add flexibility and redundancy and to relieve stress on its Furlong distribution system. The project is located in the Neshaminy, Pine Run, Mill Creek, Lahaska Creek, Watson Creek and Robin Run watersheds in Buckingham Township, Bucks County, Pennsylvania, within in the Southeastern Pennsylvania Ground Water Protected Area.

5. Caesars d/b/a Cove Haven, Inc. D-2006-19-2. An application for approval to continue discharging 0.084 mgd of treated effluent from the Brookdale WWTP. The WWTP is located at River Mile 213-3.9-0.9-11.4-2.85-0.15 (Delaware River—Brodhead Creek—McMichael Creek—Pocono Creek—Scot Run—Brookdale Lake). The WWTP is located on Brookdale Lake, within the drainage area of the section of the non-tidal Delaware River known as the Middle Delaware, which is designated as Special Protection Waters with the classification Outstanding Basin Waters. The project is located in Pocono Township, Monroe County, Pennsylvania.

6. Lower Frederick Township D-78-41 CP-2. An application for approval of modification of the Lower Frederick Township Wastewater Treatment Plant (WWTP). The docket holder proposes to replace the current disinfection system (chlorine contact tank) with an ultraviolet light (UV) disinfection system and to replace the existing outfall pipe. This project also seeks approval for a 1998 rerate of the WWTP from 0.16 million gallons per day (mgd) to 0.20 mgd, which was not previously approved by the Commission. The WWTP will continue to discharge to the Perkiomen Creek, a tributary of the Schuylkill River. The facility is located in Lower Frederick Township, Montgomery County, Pennsylvania.

7. West Grove Borough Authority D-87-24 CP-2. An application for approval of modifications to the Borough of West Grove's WWTP. The applicant proposes to upgrade the facility's contact aeration basin system, including the installation of a sewage grinder and return activated sludge lines, and the replacement of biological media and aeration diffusers. The facility's annual average flow of 0.250 mgd and hydraulic design capacity of 0.288 mgd will remain unchanged. The WWTP will continue to discharge to the Middle Branch White Clay Creek, a tributary of the Christina River. The facility is located in London Grove Township, Chester County, Pennsylvania.

8. Schuylkill County Municipal Authority D-90-49 CP-4. An application for approval of a docket modification to include an additional well that will transfer approximately 0.6 mg/30 days of ground water from the Susquehanna River Basin to the Delaware River Basin. The transferred water will be distributed within the project service area and, with the exception of some operational loss, will be returned to the Susquehanna River Basin as wastewater. In periods of increased service area demand, the Authority will transfer as much as 4.56 mg/30 days of ground water from the Susquehanna Basin into the Delaware Basin, and wastewater exportation will increase to as much as 4.35 mg/30 days. The project is located in Butler, Cass, Foster and New Castle townships, Schuylkill County, Pennsylvania. A Notice of Application Received (NAR) was issued for this project on February 10, 2009. This second NAR has been revised to reflect an increase in the amount of wastewater proposed to be exported from the basin.

9. Pennsylvania American Water Company D-91-14-2. The purpose of this project is to change the treatment technology at the docket holder's WWTP from a Rotating Biological Contactor (RBC) to a Sequential Batch Reactor (SBR). Additionally, the existing WWTP has a hydraulic design capacity of 0.135 mgd. The docket holder's NPDES permit has effluent limits based upon a 0.275 mgd discharge. The docket holder is seeking DRBC approval for expansion to 0.275 mgd. The project is located approximately 2000 feet east of Blue Mountain Lake and approximately 500 feet west of the Smithfield Township line in DRBC Water Quality Zone 1D at River Mile 213.0-5.3-2.9 (Delaware River—Brodhead Creek—Sambo Creek). Sambo Creek is a tributary of the section of the non-tidal Delaware River known as the Middle Delaware, which is designated as Special Protection Waters with the classification Outstanding Basin Waters.

10. Evesham Municipal Utilities Authority D-91-15 CP-2. An application to upgrade the Kings Grant wastewater treatment plant to replace treatment process tanks nearing the end of their useful life with a more cost effective and efficient treatment process. No increase in the existing permitted capacity of 0.6 mgd is proposed, and the discharge will continue to be conveyed to infiltration basins in the South Branch Rancocas Creek Watershed. The treatment plant will continue to serve the Kings Grant section of Evesham Township, Burlington County, New Jersey.

11. Shoemakersville D-93-74 CP-2. The purpose of this project is to recognize the increase in capacity of the Shoemakersville WWTP's hydraulic load from 0.60 mgd to 0.75 mgd. Additionally, a TDS determination was submitted, requesting approval of monthly average and instantaneous maximum concentration values of 2,131 mg/l and 3,844 mg/l, respectively. The project is located on the Schuylkill River at River Mile 92.47—92.3, in the Borough of Shoemakersville, Berks County, Pennsylvania.

12. Town of Georgetown D-94-37 CP-2. An application for the renewal of a ground water withdrawal project and to increase the withdrawal from 24.8 mg/30 days to 43.2 mg/30 days to supply the applicant's public water supply distribution system from existing wells nos. 1, 1A and 2R in the Columbia and Manokin Formations. The project involves the exportation of water from the Delaware Basin, and the exportation of 100 percent of the wastewater generated by in-basin needs. The ground water withdrawal project is located in the Broadkill-Smyrna Watershed in the Town of Georgetown, Sussex County, Delaware.

13. East Penn Manufacturing D-2003-23-2. An application for approval of a ground water withdrawal project to supply up to 21.6 mg/30 days of water to the applicant's on-site industrial plant processes and potable supply from new Well No. 10 and to increase the existing withdrawal from all wells from 15 mg/30 days to 20 mg/30 days. The increased allocation is requested in order to meet projected increases in production facility needs and to provide redundancy within the water supply system. The project well is located in the Leithsville Formation in the Moselem Creek Watershed in Richmond Township, Berks County, Pennsylvania.

14. West Deptford Energy Station D-2008-27-1. An application to approve the cooling water withdrawal and industrial wastewater discharge associated with the construction of a new gas fired, 1,500 megawatt combined cycle power generation facility known as the West Deptford Energy Station (WDES). The WDES will withdraw an average of 222.6 mg/30 days and maximum of 287.7 mg/30 days of treated effluent from the Gloucester County Utilities Authority (GCUA) wastewater treatment plant's effluent pipeline as a cooling water source. The WDES will also discharge a monthly average of 2.0 mgd (2.6 mgd daily maximum) of industrial wastewater back to GCUA's existing effluent pipeline (WDES Outfall No. DSN002A) and the two combined effluents will discharge from GCUA's existing outfall (No. DSN001A). The facility is located in West Deptford Township, Gloucester County, New Jersey.

15. Clayton Sand Company D-2008-37-1. An application for approval of an existing ground and surface water withdrawal project to continue to supply up to 215 mg/30 days of water to the applicant's industrial facility from existing Well No. 1 and Intake No. 1. The project is located in the Cohansey Formation in the Rancocas Creek Watershed in Woodland Township, Burlington County, New Jersey.

In addition, a public hearing will be held on a resolution to amend the Commission's fee schedule for the review and renewal of project approvals in accordance with Section 3.8 and Article 10 of the Delaware River Basin Compact. A copy of the proposed resolution can be viewed on the Commission's Web site, drbc.net. The business meeting also will include adoption of the Minutes of the Commission's March 11, 2009 business meeting; announcements of upcoming DRBC advisory committee meetings and other events of general interest; a report on hydrologic conditions in the basin; a report by the Executive Director; a report by the Commission's General Counsel; and consideration by the Commission of resolutions concerning (a) future updates of DRBC Water Quality Regulations, (b) election of the Commission Chair, Vice Chair and Second Vice Chair for the year 2009-2010, commencing July 1, 2009, and (c) a adoption of the fiscal year 2010 budget. A public hearing on the proposed fiscal year 2010 budget was held in December of 2008. An opportunity for public dialogue will be provided at the end of the meeting.

Draft dockets scheduled for public hearing on May 6, 2009 can be accessed through the Notice of Commission Meeting and Public Hearing on the Commission's Web site, drbc.net, ten days prior to the meeting date. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: April 15, 2009.
Pamela M. Bush,
Commission Secretary.

[FR Doc. E9-9136 Filed 4-21-09; 8:45 am]

BILLING CODE 6360-01-P